FEDERAL ELECTION COMMISSION

Sunshine Act Meeting

Previously Announced Date and Time: Tuesday, October 5, 2004. Meeting closed to the public.

This meeting was cancelled.

* * * * *

Date and Time: Thursday, October 7, 2004 at 10 a.m.

Place: 999 E Street NW., Washington, DC (Ninth Floor).

Status: This meeting will be open to the public.

Items to be Discussed:

Correction and Approval of Minutes.

Advisory Opinion 2004-36: Mark Risley/Mark Risley for Congress.

Routine Administrative Matters.

Person To Contact for Information: Mr. Robert Biersack, Acting Press Officer, Telephone: (202) 694-1220.

Mary W. Dove,
Secretary of the Commission.

[FR Doc. 04-22054 Filed 9-28-04; 11:04 am]

BILLING CODE 6715-01-M